DEPARTMENT OF THE INTERIOR

National Park Service

Availability of Record of Decision—Booker T. Washington National Monument Final General Management Plan and Abbreviated Final Environmental Impact Statement

AGENCY: National Park Service, Department of the Interior.

ACTION: Notice of Record of Decision Availability—Booker T. Washington National Monument Final General Management Plan and Abbreviated Final Environmental Impact Statement.

SUMMARY: Following the required 30-day no action period, Marie Rust, Northeast Regional Director, National Park Service signed the Record of Decision on March 22, 2000 for the Final General Management Plan and Abbreviated Final Environmental Impact Statement for Booker T. Washington National Monument in Hardy, Virginia.

The Record of Decision is available on the park's web site: http://www.nps.gov/bowa.

For more information or a copy of the Record of Decision contact Rebecca Harriet, Superintendent, Booker T. Washington National Monument, 12130 Booker T. Washington Highway, Hardy, VA 24101-9688. The superintendent's phone number is 540-721-2094.

Dated: March 22, 2000.
Marie Rust,
Northeast Regional Director, National Park Service.

[FR Doc. 00-8044 Filed 3-31-00; 8:45 am]

BILLING CODE 4310-70-M